OFFICE OF THE UNITED STATES TRADE REPRESENTATIVE

Technical Correction to the Harmonized Tariff Schedule of the United States

AGENCY: Office of the United States Trade Representative.

ACTION: Notice.

SUMMARY: Pursuant to authority delegated to the U.S. Trade Representative, the Office of the United States Trade Representative (USTR) is making a technical correction to the Harmonized Tariff Schedule of the United States (HTSUS).

DATES: The changes made by this notice are applicable as of September 22, 2022.

FOR FURTHER INFORMATION CONTACT: Braeden Young, Director for Mexico and the Caribbean, Office of the Western Hemisphere, at Braeden.P.Young@ustr.eop.gov or (202) 395-9620; or Deborah Birnbaum, Assistant General Counsel, at Deborah.E.Birnbaum@ustr.eop.gov or (202) 395-9588.

SUPPLEMENTARY INFORMATION:

I. Background

In Presidential Proclamation 9072 of December 23, 2013 (78 FR 80415), the President designated Curaçao as a beneficiary country for purposes of the Caribbean Basin Economic Recovery Act (CBERA) and the Caribbean Basin Trade Partnership Act (Title II of the Trade and Development Act of 2000, Pub. L. 106-200) (CBTPA). In that Proclamation, the President also delegated authority to the U.S. Trade Representative to determine if Curaçao is meeting the customs criteria of the CBERA. In August 2015, USTR published a notice in the Federal Register (80 FR 51650) announcing the U.S. Trade Representative's determination that Curaçao met the CBERA customs criteria and USTR therefore was modifying general note 17(a) and U.S. note 1 to subchapter XX of chapter 98 of the HTSUS. The August 2015 notice omitted a modification to U.S. note 7(b) to subchapter II of chapter 98 of the HTSUS.

II. Technical Corrections

Presidential Proclamation 6969 of January 27, 1997 (62 FR 4415), authorizes the U.S. Trade Representative to exercise the authority provided to the President under section 604 of the Trade Act of 1974 (19 U.S.C. 2483) to embody rectifications, technical or conforming changes, or similar modifications in the HTSUS. Pursuant to this delegated authority, the U.S. Trade Representative is modifying the HTSUS to correct to 2015 omission and make the following technical changes:

Effective with respect to articles entered, or withdrawn from warehouse for consumption, on or after the effective date of this notice, U.S. note 7(b) to subchapter II of chapter 98 of the Harmonized Tariff Schedule of the United States (HTSUS) is modified by inserting in alphabetical sequence in the list of eligible CBTPA beneficiary countries “Curaçao.”

Greta Peisch,
General Counsel, Office of the United States Trade Representative.

[FR Doc. 2022-20477 Filed 9-21-22; 8:45 am]

BILLING CODE P